DEPARTMENT OF HOUSING AND URBAN DEVELOPMENT

24 CFR Parts 5 and 202

[Docket No. FR-4681-C-02]

Uniform Financial Reporting Standards For HUD Housing Programs, Additional Entity Filing Requirements; Correction

AGENCY: Office of the General Counsel, HUD.

ACTION: Proposed rule; correction.

SUMMARY: On November 30, 2001, HUD published a proposed rule entitled “Uniform Financial Reporting Standards for HUD Housing Programs, Additional Entity Filing Requirements.” The preamble to the rule (although not the rule text) misstates the date by which the financial statements of entities covered by the rule must submit their financial statements electronically. This notice corrects the preamble.

FOR FURTHER INFORMATION CONTACT: For further information about the entities covered by the proposed rule and this correction notice, Lynn Herbert, the Office of Housing, U.S. Department of Housing and Urban Development, 451 Seventh Street, SW., Washington, DC 20410, telephone 202-708-3976 (this is not a toll-free number). For general information about this notice and the proposed rule, Stacey Kniff, Real Estate Assessment Center, U.S. Department of Housing and Urban Development, 1280 Maryland Avenue, SW., Suite 800, Washington, DC 20024, telephone Technical Assistance Center, 1-888-245-4860 (this is a toll-free number). Persons with hearing or speech impairments may access these telephone numbers via TTY by calling the Federal Information Relay Service at (800) 877-8339. Additional information is available from the REAC Web site at http://www.hud.gov/reac/.

SUPPLEMENTARY INFORMATION: On November 30, 2001, HUD published a proposed rule entitled “Uniform Financial Reporting Standards for HUD Housing Programs, Additional Entity Filing Requirements'' at 66 FR 60132. The preamble to the proposed rule, in the third column of that page, immediately above the “Findings and Certifications” section, states:

This rule when issued as a final rule would be effective for the covered Title I and Title II nonsupervised lenders, nonsupervised mortgagees, and loan correspondents after December 31, 2001. Audited financial statements submitted by the covered entities on or after January 1, 2002 must be submitted electronically. Audited financial statements submitted prior to January 1, 2002, may either be submitted in paper or electronically at the lenders' option.

Due to the time frame of this rulemaking, the effective date has been pushed back to June 1, 2002, which is stated correctly in the regulation at § 5.801(d)(3). In the proposed rule published on November 30, 2001, the second paragraph in the third column on page 60132 as FR Doc 01-29680 quoted above should read:

This rule when issued as a final rule would be effective for the covered Title I and Title II nonsupervised lenders, nonsupervised mortgagees, and loan correspondents after May 31, 2001. Audited financial statements submitted by the covered entities on or after June 1, 2002 must be submitted electronically. Audited financial statements submitted prior to June 1, 2002, may either be submitted on paper or electronically at the lenders' option.

Dated: December 12, 2001.
Aaron Santa Anna,
Assistant General Counsel, for Regulations.

[FR Doc. 01-31049 Filed 12-17-01; 8:45 am]

BILLING CODE 4210-27-P